DEPARTMENT OF ENERGY

Federal Energy Regulatory Commission

Combined Notice of Filings #1

July 20, 2009.

Take notice that the Commission received the following electric rate filings:

Docket Numbers: ER98-4289-007.

Applicants: Montana-Dakota Utilities Company.

Description: Montana-Dakota Utilities Co. submits amended tariff sheets, FERC Electric Tariff 1st Revised Volume 2, etc.

Filed Date: 07/16/2009.

Accession Number: 20090716-0086.

Comment Date: 5 p.m. Eastern Time on Thursday, August 6, 2009.

Docket Numbers: ER99-3151-013.

Applicants: PSEG Energy Resources & Trade LLC.

Description: Public Service Electric and Gas Company et al submits Substitute Fourth Revised Sheet 3 et al to FERC Electric Tariff, Original Volume 1, effective 6/1/09.

Filed Date: 07/15/2009.

Accession Number: 20090716-0073.

Comment Date: 5 p.m. Eastern Time on Wednesday, August 5, 2009.

Docket Numbers: ER01-316-033.

Applicants: ISO New England Inc.

Description: ISO New England Inc. submits Index of Customers for the second quarter of 2009 under the ISO's FERC Tariff for Transmission Dispatch and Power Administration Services.

Filed Date: 07/15/2009.

Accession Number: 20090716-0070.

Comment Date: 5 p.m. Eastern Time on Wednesday, August 5, 2009.

Docket Numbers: ER09-889-002.

Applicants: City Of Dover Delaware.

Description: City of Dover submits Original Sheet 1 to Rate Schedule FERC 1.

Filed Date: 07/16/2009.

Accession Number: 20090717-0036.

Comment Date: 5 p.m. Eastern Time on Thursday, August 6, 2009.

Docket Numbers: ER09-1359-001.

Applicants: PECO Energy Company.

Description: PECO Energy Company submits missing pages 2 and 3 of the Transmission Facilities Agreement.

Filed Date: 07/15/2009.

Accession Number: 20090716-0046.

Comment Date: 5 p.m. Eastern Time on Wednesday, August 5, 2009.

Docket Numbers: ER09-1450-000.

Applicants: Energy Productivity Services Inc.

Description: Energy Productivity Services, Inc. submits FERC Electric Tariff, Original Volume 1.

Filed Date: 07/16/2009.

Accession Number: 20090717-0022.

Comment Date: 5 p.m. Eastern Time on Thursday, August 6, 2009.

Docket Numbers: ER09-1453-000.

Applicants: Gateway Energy Services Corporation.

Description: Getaway Energy Services Corporation submits the Petition for Acceptance of Initial Tariff, Waivers and Blanket Authorization submitted by Gateway.

Filed Date: 07/16/2009.

Accession Number: 20090716-0085.

Comment Date: 5 p.m. Eastern Time on Thursday, August 6, 2009.

Docket Numbers: ER09-1454-000.

Applicants: ISO New England Inc.

Description: ISO New England Inc. submits State Certification of the Connecticut Department of Public Utility Control.

Filed Date: 07/15/2009.

Accession Number: 20090716-0071.

Comment Date: 5 p.m. Eastern Time on Wednesday, August 5, 2009.

Docket Numbers: ER09-1455-000.

Applicants: PJM Interconnection, L.L.C.

Description: PJM Interconnection, LLC submits executed interconnection service agreement among PJM, AES Fox Wind, LLC, and Pennsylvania Electric Company.

Filed Date: 07/15/2009.

Accession Number: 20090716-0072.

Comment Date: 5 p.m. Eastern Time on Wednesday, August 5, 2009.

Docket Numbers: ER09-1356-000.

Applicants: Grand Ridge Energy LL.

Description: Supplement to Filing of Assignment, Co-Tenancy and Shared Facilities Agreement and Request for Waivers of the Grand Ridge Companies under ER09-1356, et al.

Filed Date: 07/16/2009.

Accession Number: 20090716-5099.

Comment Date: 5 p.m. Eastern Time on Thursday, August 6, 2009.

Docket Numbers: ER09-1450-000.

Applicants: Energy Productivity Services Inc.

Description: Energy Productivity Services, Inc submits FERC Electric Tariff, Original Volume 1.

Filed Date: 07/16/2009.

Accession Number: 20090717-0022.

Comment Date: 5 p.m. Eastern Time on Thursday, August 6, 2009.

Docket Numbers: ER09-1453-000.

Applicants: Gateway Energy Services Corporation.

Description: Getaway Energy Services Corporation submits the Petition for Acceptance of Initial Tariff, Waivers and Blanket Authorization submitted by Gateway.

Filed Date: 07/16/2009.

Accession Number: 20090716-0085.

Comment Date: 5 p.m. Eastern Time on Thursday, August 6, 2009.

Docket Numbers: ER09-1456-000.

Applicants: Southern California Edison Company.

Description: Southern California Edison Company submits a Small Generator Interconnection Agreement and a Service Agreement for Wholesale Distribution Service etc.

Filed Date: 07/16/2009.

Accession Number: 20090716-0084.

Comment Date: 5 p.m. Eastern Time on Thursday, August 6, 2009.

Docket Numbers: ER09-1457-000.

Applicants: Southwest Power Pool, Inc.

Description: Southwest Power Pool, Inc submits notices of cancellation for six Network Integration Transmission Service Agreements and the corresponding Network Operating Agreements.

Filed Date: 07/16/2009.

Accession Number: 20090717-0034.

Comment Date: 5 p.m. Eastern Time on Thursday, August 6, 2009.

Docket Numbers: ER09-1458-000; ER09-1459-000; ER09-1460-000; ER09-1461-000.

Applicants: WPS Canada Generation, Inc.; Integrys Energy Services, Inc.; WPS Westwood Generation, LLC; WPS New England Generation, Inc.

Description: Integrys Energy Services, Inc et al submits revised cover sheets cancelling several inter-affiliate market based rate service agreements and a brokering and dispatch agreement under ER09-1458 et al.

Filed Date: 07/16/2009.

Accession Number: 20090717-0035.

Comment Date: 5 p.m. Eastern Time on Thursday, August 6, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-17759 Filed 7-24-09; 8:45 am]

BILLING CODE 6717-01-P